DEPARTMENT OF HOMELAND SECURITY

U.S. Customs and Border Protection

Delayed Effective Date for Modifications of the National Customs Automation Program Tests Regarding Reconciliation, Post-Summary Corrections, and Periodic Monthly Statements

AGENCY: U.S. Customs and Border Protection, Department of Homeland Security.

ACTION: Delay of effective date.

SUMMARY: This notice announces that the effective date for the modifications to the National Customs Automation Program (NCAP) tests regarding Reconciliation, Post-Summary Corrections, and Periodic Monthly Statements is delayed until further notice. On December 12, 2016, U.S. Customs and Border Protection (CBP) published a notice in the Federal Register announcing modifications to the National Customs Automation Program (NCAP) test regarding reconciliation, and the transition of the test from the Automated Commercial System (ACS) to the Automated Commercial Environment (ACE). The modifications made by this notice were to be effective on January 14, 2017. On December 12, 2016, U.S. Customs and Border Protection (CBP) published in the Federal Register a document announcing CBP's plans to modify and clarify the National Customs Automation Program (NCAP) test regarding Post-Summary Correction (PSC) claims to entry summaries that are filed in the Automated Commercial Environment (ACE), as well as the Periodic Monthly Statement (PMS) test. The notice liberalized and eliminated some requirements needed for the filing of PSCs; however, it also placed burdens on the importer in the form of a restriction and a prohibition. Subsequently, CBP published a notice in the Federal Register on January 9, 2017, to remove the restriction imposed on all PSC filings to make payments within three business days of submitting the PSC, with the exception of entry type 03 filings, and to remove the prohibition of filing additional PSCs until additional duties, fees and taxes are deposited. The changes to the PSC and PMS tests were to have been effective January 14, 2017. This notice announces that the effective date for the modifications to these NCAP tests has been delayed until further notice.

DATES: The effective date for the modifications to the reconciliation, PSC, and PMS NCAP tests is delayed until further notice.

ADDRESSES: Comments concerning the reconciliation test program may be submitted any time during the test via email, with a subject line identifier reading, “Comment on Reconciliation test”, to OFO-RECONFOLDER@cbp.dhs.gov.

Comments concerning the PSC and PMS test programs may be submitted via email to Monica Crockett at ESARinfoinbox@dhs.gov with a subject line identifier reading, “Post-Summary Corrections and Periodic Monthly Statements.”

FOR FURTHER INFORMATION CONTACT: Reconciliation: Acenitha Kennedy, Entry Summary and Revenue Branch, Trade Policy and Programs, Office of Trade at (202) 863-6064 or ACENITHA.KENNEDY@CBP.DHS.GOV.

PSC and PMS: For policy-related questions, contact Randy Mitchell, Director, Commercial Operations, Trade Policy and Programs, Office of Trade, at Randy.Mitchell@cbp.dhs.gov. For technical questions related to ABI transmissions, contact your assigned client representative. Interested parties without an assigned client representative should direct their questions to the Client Representative Branch at (703) 650-3500.

SUPPLEMENTARY INFORMATION:

Background

I. Reconciliation Test

On December 12, 2016, U.S. Customs and Border Protection (CBP) published a notice entitled “Modification of the National Customs Automation Program Test Regarding Reconciliation and Transition of the Test from the Automated Commercial System to the Automated Commercial Environment” in the Federal Register (81 FR 89486), with an effective date of January 14, 2017. This notice announced modifications to the National Customs Automation Program (NCAP) test regarding reconciliation, and the transition of the test from the Automated Commercial System (ACS) to the Automated Commercial Environment (ACE). The modifications eliminated several requirements for participation in the test, imposed new data requirements, and established the requirement that reconciliation entries be filed in ACE regardless of whether the underlying entry was filed in ACS or ACE.

CBP has assessed stakeholder readiness for the mandatory transition of post-release capabilities in ACE, including the modifications to the reconciliation test and the transition of reconciliation filings from ACS to ACE. This notice announces that the effective date for the modifications to the reconciliation test, and for mandatory filing of reconciliation entries in ACE has been delayed until further notice.

II. Post-Summary Correction and Periodic Monthly Statement Tests

On December 12, 2016, U.S. Customs and Border Protection (CBP) published a notice in the Federal Register (81 FR 89482) announcing plans to modify and clarify, effective January 14, 2017, the National Customs Automation Program (NCAP) test regarding Post-Summary Correction (PSC) claims, and the Periodic Monthly Statement (PMS) test. The modifications made by the notice eliminated or liberalized certain requirements for the filing of a PSC, making it easier for importers to file a PSC for additional entry types, and allowed filers additional time to make a deposit for duties, fees and taxes owed. With regard to the PMS test program, the notice announced the time at which CBP considers a PMS as paid when filers use the Automated Clearing House (ACH) debit process.

Subsequently, CBP decided not to implement two of the changes announced in the December 12, 2016 notice. In a notice published in the Federal Register (82 FR 2385) on January 9, 2017, CBP removed the requirement that additional duties, fees and taxes be submitted within three business days of filing a PSC, and limited the restriction of submitting payment to PSC filings declaring an increase of liability for antidumping/countervailing duties and associated fees and taxes. The notice also removed the prohibition of filing additional PSCs until the duties, fees and taxes are deposited. Like the changes made in the December 12, 2016 notice, these changes were to become effective on January 14, 2017. This notice announces that the effective date for the modifications to the PSC and PMS tests has been delayed until further notice.

Dated: January 11, 2017.
Brenda B. Smith,
Executive Assistant Commissioner, Office of Trade.

[FR Doc. 2017-00837 Filed 1-13-17; 8:45 am]

BILLING CODE 9111-14-P